OFFICE OF THE UNITED STATES TRADE REPRESENTATIVE

2012 Special 301 Review: Identification of Countries Under Section 182 of the Trade Act of 1974: Request for Public Comment and Announcement of Public Hearing

AGENCY: Office of the United States Trade Representative.

ACTION: Request for written submissions from the public and announcement of public hearing.

SUMMARY: Section 182 of the Trade Act of 1974 (Trade Act) (19 U.S.C. 2242) requires the United States Trade Representative (USTR) to identify countries that deny adequate and effective protection of intellectual property rights (IPR) or deny fair and equitable market access to U.S. persons who rely on intellectual property protection. (The provisions of Section 182 are commonly referred to as the “Special 301” provisions of the Trade Act.). The USTR is required to determine which, if any, of these countries should be identified as Priority Foreign Countries. Acts, policies, or practices that are the basis of a country's identification as a Priority Foreign Country can be subject to the procedures set out in sections 301-305 of the Trade Act.

In addition, USTR has created a “Priority Watch List” and “Watch List” to assist the Administration in pursuing the goals of the Special 301 provisions. Placement of a trading partner on the Priority Watch List or Watch List indicates that particular problems exist in that country with respect to IPR protection, enforcement, or market access for persons relying on intellectual property. Trading partners placed on the Priority Watch List are the focus of increased bilateral attention concerning the problem areas.

USTR chairs an interagency team that reviews information from many sources, and that consults with and makes recommendations to the USTR on issues arising under Special 301. Written submissions from interested persons are a key source of information for the Special 301 review process. In 2012, USTR will conduct a public hearing as part of the review process.

USTR is hereby requesting written submissions from the public concerning foreign countries' acts, policies, or practices that are relevant to the decision as to whether a particular trading partner should be identified as a priority foreign country under Section 182 of the Trade Act, or be placed on the Priority Watch List or Watch List. Interested parties, including foreign governments, wishing to testify at the public hearing must submit a request to testify at the hearing and a short hearing statement. The deadlines for these procedures are set out below.

DATES: The schedule for the 2012 Special 301 review is set forth below.

Friday, February 10, 2012—For interested parties, except for foreign governments: Submit written comments, requests to testify at the Special 301 Public Hearing, and hearing statements.

Friday, February 17, 2012—For foreign governments: Submit written comments, requests to testify at the Special 301 Public Hearing, and hearing statements.

Thursday, February 23, 2012—Special 301 Committee Public Hearing for interested parties, including representatives of foreign governments, will be held at the offices of USTR, 1724 F Street NW., Washington, DC 20508. Any change in the date or location of the hearing will be announced on http://www.ustr.gov.

On or about April 30, 2011—In accordance with statutory requirements, USTR will publish the 2012 Special 301 Report on or about April 30, 2012.

ADDRESSES: All written comments, requests to testify, and hearing statements should be sent electronically via http://www.regulations.gov, docket number USTR-2011-0021. Submissions should contain the term “2011 Special 301 Review” in the “Type comment” field on http://www.regulations.gov.

FOR FURTHER INFORMATION CONTACT: Paula Karol Pinha, Director for Intellectual Property and Innovation, Office of the United States Trade Representative, at (202) 395-5419. Further information about Special 301 can be found at http://www.ustr.gov.

SUPPLEMENTARY INFORMATION:

1. Background

USTR requests that interested persons identify those countries that deny adequate and effective protection for intellectual property rights or deny fair and equitable market access to U.S. persons who rely on intellectual property protection. USTR requests that, where relevant, submissions mention particular regions, provinces, states, or other subdivisions of a country in which an act, policy, or practice is believed to warrant special attention.

Section 182 contains a special rule regarding actions of Canada affecting United States cultural industries. The USTR must identify any act, policy or practice of Canada that affects cultural industries, is adopted or expanded after December 17, 1992, and is actionable under Article 2106 of the North American Free Trade Agreement (NAFTA). USTR must make the above-referenced identifications within 30 days after publication of the National Trade Estimate (NTE) report, i.e., approximately April 30, 2012.

2. Public Comments

a. Written Comments

The Special 301 Committee invites written submissions from the public concerning foreign countries' acts, policies, or practices that are relevant to the decision whether a particular trading partner should be identified under Section 182 of the Trade Act. As noted above, interested parties, except for foreign governments, must submit any written comments by February 10, 2012. Interested foreign governments must submit any written comments by February 17, 2012.

b. Requirements for Comments

Written comments should include a description of the problems experienced by the submitter and the effect of the acts, policies, and practices on U.S. industry. Comments should be as detailed as possible and should provide all necessary information for assessing the effect of the acts, policies, and practices. Any comments that include quantitative loss claims should be accompanied by the methodology used in calculating such estimated losses. Comments must be in English. All comments should be sent electronically via http://www.regulations.gov, docket number USTR-2011-0021.

To submit comments to http://www.regulations.gov, find the docket by entering the number USTR-2011-0021 in the “Enter Keyword or ID” window at the http://www.regulations.gov home page and click “Search.” The site will provide a search—results page listing all documents associated with this docket. Find a reference to this notice by selecting “Notice” under “Document Type” on the left side of the search—results page, and click on the link entitled “Submit a comment.” (For further information on using the http://www.regulations.gov Web site, please consult the resources provided on the Web site by clicking on “How to Use This Site” on the left side of the home page).

The http://www.regulations.gov site provides the option of providing comments by filling in a “Type comment” field, or by attaching a document. It is USTR's preference that comments be provided in an attached document. If a document is attached, please type “2012 Special 301 Review” in the “Type comment” field. USTR prefers submissions in Microsoft Word® (.doc) or Adobe Acrobat® (.pdf) formats. If the submission is in application format other than Microsoft Word® or Adobe Acrobat® (.pdf), please indicate the name of the relevant application in the “Type comment” field.

3. Public Hearing

a. Notice of Public Hearing

The Special 301 Committee will hold a public hearing at the offices of USTR, 1724 F Street NW., Washington, DC 20508 for interested parties, including representatives of foreign governments, on February 23, 2012. The hearing will be open to the public, and a transcript of the hearing will be made available on http://www.ustr.gov. Any change in the date or location of the hearing will be announced on http://www.ustr.gov.

b. Submission of Requests To Testify at the Public Hearing and Hearing Statements

Oral testimony before the Special 301 Committee must be provided in person and in English. Each presentation of oral testimony will be limited to five minutes. Questions from the Special 301 Committee may follow oral testimony.

All interested parties, except foreign governments, wishing to testify at the hearing must submit, by February 10, 2012, a “Notice of Intent to Testify” and “Hearing Statement” to http://www.regulations.gov (following the procedures set forth in “Requirements for Comments” above). The Notice of Intent to Testify must include the name of the witness, name of the organization (if applicable), address, telephone number, fax number, and email address. A Hearing Statement must accompany the Notice of Intent to Testify.

All interested foreign governments who wish to testify at the hearing must submit, by February 17, 2012, a “Notice of Intent to Testify” to http://www.regulations.gov (following the procedures set forth in “Requirements for Comments” above). The Notice of Intent to Testify must include the name of the witness, name of the organization (if applicable), address, telephone number, fax number, and email address. A Hearing Statement may accompany the Notice of Intent to Testify.

4. Business Confidential Information

A person requesting that information contained in a comment submitted by that person be treated as confidential business information must certify that such information is business confidential and would not customarily be released to the public by the submitter. Confidential business information must be clearly designated as such, the submission must be marked “Business Confidential” at the top and bottom of the cover page and each succeeding page, and the submission should indicate, via brackets, the specific information that is confidential. Additionally, “Business Confidential” should be included in the “Type comment” field. Anyone submitting a comment containing business confidential information must also submit as a separate submission a non-confidential version of the confidential submission, indicating where confidential information has been redacted. The non-confidential summary will be placed in the docket and open to public inspection.

5. Inspection of Comments

USTR will maintain a docket on the 2012 Special 301 Review, accessible to the public. The public file will include non-confidential comments, notices of intent to testify, and hearing statements received by USTR from the public, including foreign governments, with respect to the 2012 Special 301 Review. Comments will be placed in the docket and open to public inspection pursuant to 15 CFR 2006.13, except confidential business information exempt from public inspection in accordance with 15 CFR 2006.15. Comments may be viewed on the http://www.regulations.gov Web site by entering docket number USTR-2011-0021 in the search field on the home page.

Stanford K. McCoy,
Assistant U.S. Trade Representative for Intellectual Property and Innovation.

[FR Doc. 2011-33289 Filed 12-27-11; 8:45 am]

BILLING CODE 3190-W2-P